DEPARTMENT OF COMMERCE

National Oceanic and Atmospheric Administration

RIN 0648-XF976

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Tuesday, February 13, 2018 through Thursday, February 15, 2018. For agenda details, see SUPPLEMENTARY INFORMATION.

ADDRESSES: The meeting will be held at: The Hilton Garden Inn Raleigh/Crabtree Valley, 3912 Arrow Drive, Raleigh, NC 27612, telephone: (919) 703-2525.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The following items are on the agenda, though agenda items may be addressed out of order (changes will be noted on the Council's website when possible).

Tuesday, February 13, 2018

Risk Policy Framework and MSE

Council discussion on integration of more comprehensive social and economic analyses into MAFMC MSE model developed to evaluate Council risk policy and ABC Framework and risk policy and butterfish specifications.

Climate Change and Fisheries

Trends in average commercial fishing locations over time in response to shifts in species distribution and discuss future direction of Rutgers/MAFMC Climate Velocity COCA project.

Wednesday, February 14, 2018

Ricks E Savage Award

Black Sea Bass Recreational Management Measures

Adopt 2018 Federal waters management measures (tabled motion from December 2017 meeting); review state proposals for 2018 February fishery; and, discuss progress on LOA Framework.

Summer Flounder, Scup, and Black Sea Bass Commercial Accountability Measures Framework—Meeting 2

Review and approve preferred alternatives.

Council Habitat Update

Progress towards a Regional Fish Habitat Assessment; Council engagement on Offshore Wind Energy Planning; and, habitat projects of interest (GARFO/Habitat Conservation update).

North Atlantic Right Whale 5-Year Review and Reinitiation of Endangered Species Act (ESA) Section 7 Fishery Biological Opinions

Update on the status of right whales and a summary of recent research; overview of consultation on commercial fisheries under Section 7 of the ESA; and, update on planned activities of the Atlantic Large Whale Take Reduction Team under the Marine Mammal Protection Act in 2018.

Thursday, February 15, 2018

Business Session

Committee Reports; Executive Director's Report; Science Report (review final draft of EAFM Risk Assessment); Law Enforcement Reports; Organization Reports; and, Liaison Reports.

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: January 23, 2018.
Tracey L. Thompson,
Acting Deputy Director, Office of Sustainable Fisheries, National Marine Fisheries Service.

[FR Doc. 2018-01428 Filed 1-25-18; 8:45 am]

BILLING CODE 3510-22-P